DEPARTMENT OF COMMERCE

National Oceanic and Atmospheric Administration

50 CFR Part 600

[I.D. 021303A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject EFP application contains all of the required information and warrants further consideration. The Regional Administrator has also made a preliminary determination that the activities authorized under the EFP are consistent with the goals and objectives of the Summer Flounder, Scup, and Black Sea Bass Fishery Management Plan (FMP); the Atlantic Mackerel, Squid, and Butterfish FMP; and the Bluefish FMP. However, further review and consultation may be necessary before a final determination is made to issue an EFP. Therefore, NMFS announces that the Regional Administrator proposes to issue EFPs that would allow up to two vessels to conduct a supplemental finfish survey, and up to 15 additional vessels to conduct fishing operations otherwise restricted by the regulations governing the fisheries of the Northeastern United States. In order to fund the survey, the 15 additional vessels would be fishing for specific amounts of named species under the Research Set-Aside (RSA) Program. Regulations under the Magnuson-Stevens Fishery Conservation and Management Act require publication of this notification to provide interested parties the opportunity to comment on applications for proposed EFPs.

DATES: Comments on this document must be received on or before 5 p.m. EST March 14, 2003.

ADDRESSES: Written comments should be sent to Patricia A. Kurkul, Regional Administrator, NMFS, Northeast Regional Office, 1 Blackburn Drive, Gloucester, MA 01930. Mark the outside of the envelope “Comments on NFI Supplemental Survey EFP Proposal.” Comments may also be sent via facsimile (fax) to (978) 281-9135.

FOR FURTHER INFORMATION CONTACT: Paul Perra, Fishery Policy Analyst, 978-281-9153.

SUPPLEMENTARY INFORMATION: The application process for an EFP was completed by the National Fisheries Institute (NFI) on January 30, 2003. The experiment, coordinated by NFI in cooperation with Rutgers University and NMFS' Northeast Fisheries Science Center, requested EFPs for up to two vessels to conduct a supplemental finfish survey targeting Mid-Atlantic migratory species, and for up to 15 additional vessels to harvest RSA allocations. The two vessels participating in the research project, and up to 15 additional vessels, would make additional compensation fishing trips, during closed seasons, to land up to the total RSA quota allocation of 67,163 lb (30,465 kg) of summer flounder, 21,325 lb (9,673 kg) of scup, 21,338 lb (9,679 kg) of black sea bass, 140,543 lb (63,749 kg) of Loligo squid, 194,413 lb (88,185 kg) of Illex squid, 702,712 lb (318,745 kg) of Atlantic mackerel, and 141,900 lb (64,365 kg) of bluefish. However, no fish caught during these compensation fishing trips smaller than the legal minimum size could be sold, traded, bartered, or processed for sale. Landings from such trips would be sold to generate funds that would defray the costs associated with the research projects.

Under the research project, the research vessels would make two trips of several days each, along two transects, and conduct 10 research tows during each trip. One transect would be east of Hudson Canyon and one south of Baltimore Canyon. Sampling would be conducted in March and May of 2003 along each transect at 50 fm (91 m), 60 fm (110 m), 80 fm (146 m), 125 fm (229 m), 150 fm (247 m), 200 fm (366 m), and 225 fm (411 m), with two additional trawl sites added along each of the transects based on the catches of the target species. Primary target species would be summer flounder, scup, black sea bass, monkfish, and spiny dogfish; secondary target species would be skates, yellowtail flounder, winter flounder, lobster, and Loligo squid. One tow would be conducted at each station over a fixed distance of 2 nautical miles, with tow speeds of 3 to 3.2 knots. A four-seam box net would be used with a 2.4-inch (6-cm) mesh codend. Careful records would be kept of all gear descriptions so that subsequent surveys can use consistent gear. Scientific research personnel would be on board the vessels at all times when the survey is conducted.

To facilitate the collection of data during periods with the greatest potential for fishing success, the research vessels would be exempt from the summer flounder closures at 50 CFR 648.101(a) and (b); summer flounder gear restrictions at § 648.104; scup trimester quota closures at § 648.121(a); scup gear restricted area provisions at § 648.122(a) and (b); scup trawl gear restrictions at § 648.123; black sea bass trip limits at § 648.140(b)(2); black sea bass quarterly quota closures at § 648.141; black sea bass gear restrictions at § 648.144(1),(2),(3), and (4); Loligo squid, Illex squid, and mackerel closures at § 648.22(a) and (c); and bluefish closures at § 648.161(a) and (b). In order to collect individual fish sizes and other data, the research vessels would also be exempt from: Minimum size requirements for summer flounder at § 648.103(a),(b), and (c); for scup at § 648.124(a); for black sea bass at § 648.143; for monkfish at § 648.93; for spiny dogfish at § 648.233; for yellowtail flounder and winter flounder at § 648.83; and for lobster at § 697.20(b); from spiny dogfish closures at § 648.231; and from Northeast multispecies regulated mesh requirements, and restrictions on gear and methods of fishing at § 648.80.

The 1 to 15 vessels that would be used to harvest the RSA allocations would be exempt only from the summer flounder closures at § 648.101(a) and (b); summer flounder gear restrictions at § 648.104; scup trimester quota closures at § 648.121(a); black sea bass trip limits at § 648.140(b)(2); black sea bass closures at § 648.140 and § 648.141; Loligo squid, Illex squid, and Atlantic mackerel closures at § 648.22(a) and (c); and bluefish closures at § 648.161(a) and (b).

Any landings that would occur from research or compensation fishing would be reported in the Vessel Trip Reports, as required. All landings would be landed in compliance with applicable state landing laws.

Authority: 16 U.S.C. 1801 et seq.

Dated: February 20, 2003.
Richard W. Surdi,
Acting Director, Office of Sustainable Fisheries, National Marine Fisheries Service.

[FR Doc. 03-4566 Filed 2-26-03; 8:45 am]

BILLING CODE 3510-22-S